DEPARTMENT OF HOUSING AND URBAN DEVELOPMENT

[Docket No. FR-4901-N-17]

Federal Property Suitable as Facilities to Assist the Homeless

Correction

In notice document 04-8979 beginning on page 22086 in the issue of Friday, April 23, 2004 make the following corrections:

1. On page 22087, in the third column, preceding the eleventh line from the bottom, insert this heading:

Suitable/Unavailable Properties

Land (by State)

2. On page 22088, in the first column, after the fourth full entry, preceding the entry “California”, insert this heading:

Unsuitable Properties

Buildings (by State)

[FR Doc. C4-8979 Filed 5-7-04; 8:45 am]

BILLING CODE 1505-01-D